DEPARTMENT OF AGRICULTURE

Office of Inspector General

Succession and Delegations of Authority

AGENCY: Office of Inspector General, USDA.

ACTION: Notice.

SUMMARY: On July 19, 2004, USDA Inspector General Phyllis K. Fong, pursuant to authority vested in her by the Federal Vacancies Reform Act (5 U.S.C. 3345-3349d) and the Inspector General Act of 1978 (5 U.S.C. App. 3), issued IG-1313, Change 6, Succession and Delegations of Authority. This directive is a revised Succession and Delegations of Authority for the Office of Inspector General. This directive has been revised to show the lines of succession and delegation and clarifies procedures to be followed in the event the Office of Inspector General (OIG) headquarters must be relocated. This directive provides guidance on the transfer of functions and duties of the Inspector General (IG), as well as other OIG central management functions, regardless of what events necessitate such transfer.

DATES: This notice is effective June 6, 2005.

FOR FURTHER INFORMATION CONTACT: David R. Gray, Counsel to the Inspector General, U.S. Department of Agriculture, 1400 Independence Avenue, SW., Room 41-W, Washington, DC 20250-2308, Telephone: (202) 720-9110, Facsimile: (202) 690-1528, e-mail: drgray@oig.usda.gov.

SUPPLEMENTARY INFORMATION: The OIG proposes revising the Succession and Delegations of Authority for the Office of Inspector General by publishing a detailed sequence of succession within the Washington, DC headquarters, followed by a detailed sequence of succession by Region and position, i.e., Regional Inspector General (RIG) and Special Agent-in-Charge (SAC), for each OIG Region outside the Washington, DC area. This action is taken pursuant to authority vested in the Inspector General by the Federal Vacancies Reform Act (5 U.S.C. 3345-3349d) and the Inspector General Act of 1978 (5 U.S.C. App. 3).

For the reasons stated in the preamble, Succession and Delegations of Authority IG-1313, Change 5, is hereby revised to effect a delegation of authority and provide a line of succession from the Inspector General as follows:

I. Pursuant to authority vested in me by the Federal Vacancies Reform Act (5 U.S.C. 3345-3349d) and the Inspector General Act of 1978 (5 U.S.C. App. 3), in the event of the resignation, death, or reasons that make the Inspector General (IG), United States Department of Agriculture (USDA) otherwise unable to perform the duties of the position, the officials designated below, in the order indicated, and in the absence of the specific designation of another official in writing by the Inspector General or the Acting Inspector General, are hereby authorized to and shall serve as Acting Inspector General. The designated officials shall perform the duties and are delegated the full authority and power ascribed to the Inspector General by law and regulation as well as those authorities delegated to the Inspector General by the Secretary, United States Department of Agriculture:

1. Deputy Inspector General;

2. Assistant Inspector General for Audit (AIG/A);

3. Assistant Inspector General for Investigations (AIG/I);

4. Counsel to the Inspector General;

5. Assistant Inspector General for Policy Development and Resources Management (AIG/PD&RM);

6. Assistant Inspector General for Planning and Special Projects (AIG/P&SP);

7. Deputy Assistant Inspector General for Audit (DAIG/A), by seniority;

8. Deputy Assistant Inspector General for Investigations (DAIG/I), by seniority;

9. In Headquarters, Washington, DC, in the following order: The Audit Division Director (DD), by seniority, followed by the Special Agent-in-Charge (SAC), by seniority;

In the following order by region: The Regional Inspector General (RIG), followed by the Special Agent-in-Charge (SAC):

10. Great Plains Region, Kansas City, MO;

11. Financial and IT Operations, Kansas City, MO;

12. Southwest Region, Temple, TX;

13. Northeast Region, Beltsville, MD;

14. Southeast Region, Atlanta, GA;

15. Midwest Region, Chicago, IL; or

16. Western Region, San Francisco, CA.

II. Anyone designated by the Inspector General as acting in one of the positions listed above remains in the line of succession; otherwise, the authority moves to the next position.

III. This delegation is not in derogation of any authority residing in the above officials relating to the operations of their respective programs, nor does it affect the validity of any delegations currently in force and effect and not specifically cited as revoked or revised herein.

IV. The authorities delegated herein may not be redelegated.

Dated: March 22, 2005.
Phyllis K. Fong,
Inspector General.

[FR Doc. 05-6541 Filed 4-4-05; 8:45 am]

BILLING CODE 3410-23-P